DEPARTMENT OF COMMERCE

International Trade Administration

[A-570-190]

Sol Gel Alumina-Based Ceramic Abrasive Grains From the People's Republic of China: Final Affirmative Determination of Sales at Less Than Fair Value

AGENCY: Enforcement and Compliance, International Trade Administration, Department of Commerce.

SUMMARY: The U.S. Department of Commerce (Commerce) determines that sol gel alumina-based ceramic abrasive grains (ceramic abrasive grains) from the People's Republic of China (China) are being, or are likely to be, sold in the United States at less-than-fair-value (LTFV). The period of investigation (POI) is April 1, 2024, through September 30, 2024.

DATES: Applicable August 15, 2025.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On June 2, 2025, Commerce published in the Federal Register the Preliminary Determination in this investigation and invited interested parties to comment.¹ We received no comments or case briefs addressing any of the findings in the Preliminary Determination; therefore, we made no changes, and no decision memorandum accompanies this notice. The Preliminary Determination is hereby adopted as this final determination. The deadline for the final determination is August 11, 2025.

¹ See Sol Gel Alumina-Based Ceramic Abrasive Grains from the People's Republic of China: Preliminary Affirmative Determination of Sales at Less Than Fair Value, 90 FR 23319 (June 2, 2025) (Preliminary Determination), and accompanying Preliminary Decision Memorandum (PDM).

Scope of the Investigation

The product covered by this investigation is ceramic abrasive grains from China. For a complete description of the scope of this investigation, see the appendix to this notice.

Scope Comments

We received no comments from interested parties on the scope of the investigation as it appeared in the Preliminary Determination and accompanying Preliminary Scope Decision Memorandum.² Therefore, we made no changes to the scope of the investigation.

² See Memorandum, “Less-Than-Fair-Value and Countervailing Duty Investigations of Sol Gel Alumina-Based Ceramic Abrasive Grains from the People's Republic of China: Preliminary Scope Decision Memorandum,” dated May 27, 2025 (Preliminary Scope Decision Memorandum).

China-Wide Entity and Use of Adverse Facts Available (AFA)

For the purposes of this final determination, consistent with the Preliminary Determination,³ we relied solely on the application of AFA for the China-wide entity, pursuant to sections 776(a) and (b) of the Tariff Act of 1930, as amended (the Act). Further, because no companies are eligible for a rate separate from the China-wide entity, we continue to find that all Chinese producers or exporters of ceramic abrasive grains are part of the China-wide entity. No interested party submitted comments on the Preliminary Determination. Thus, we made no changes to our analysis or to the China-wide entity's dumping margin for the final determination. A detailed discussion of our application of AFA is provided in the Preliminary Determination.⁴

³ See Preliminary Determination PDM at 3-8.

⁴ Id.

Combination Rates

Because no Chinese exporters qualified for a separate rate, producer/exporter combination rates were not calculated for this final determination.

Final Determination

The final estimated dumping margin is as follows:

Exporter/producer | Weighted-average dumping margin (percent) | Cash deposit rate (adjusted for subsidy offset) (percent)
China-wide Entity | * 88.32 | 72.22
* Rate based on facts available with adverse inferences.

Disclosure

Normally, Commerce will disclose to the parties in a proceeding the calculations performed in connection with a final determination within five days of any public announcement or, if there is no public announcement, within five days of the date of publication of the notice of final determination in the Federal Register, in accordance with 19 CFR 351.224(b). However, because Commerce continues to find that all Chinese producers or exporters of ceramic abrasive grains are part of the China-wide entity and continues to rely solely on the application of AFA for the China-wide entity, there are no calculations to disclose for this final determination.

Continuation of Suspension of Liquidation

In accordance with section 735(c)(1)(B) of the Act, Commerce will instruct U.S. Customs and Border Protection (CBP) to continue to suspend liquidation of subject merchandise, as described in the appendix to this notice, entered, or withdrawn from warehouse, for consumption on or after June 2, 2025, which is the date of publication of the affirmative Preliminary Determination in the Federal Register, at the cash deposit rate indicated above.

Pursuant to section 735(c)(1)(B)(ii) of the Act and 19 CFR 351.210(d), we will instruct CBP to require a cash deposit for such entries of merchandise equal to the amount by which the normal value exceeds the U.S. price as follows: (1) for all Chinese producers or exporters of subject merchandise, the cash deposit rate will be equal to the estimated dumping margin established for the China-wide entity, adjusted for the subsidy offset as appropriate; and (2) for all third country exporters of subject merchandise, the cash deposit rate is also the cash deposit rate applicable to the China-wide entity, adjusted for the subsidy offset as appropriate. These suspension of liquidation instructions will remain in effect until further notice.

To determine the antidumping duty cash deposit rate, Commerce normally adjusts the estimated weighted-average dumping margin by the amount of domestic subsidy pass-through and export subsidies determined in a companion countervailing duty (CVD) proceeding. Accordingly, where Commerce has made a final affirmative determination of countervailable export subsidies, Commerce offsets the estimated weighted-average dumping margin by the appropriate CVD rate. Commerce has continued to adjust the cash deposit rate for export subsidies found in the companion CVD investigation by the appropriate export subsidy rate as indicated in the above chart.

U.S. International Trade Commission (ITC) Notification

In accordance with section 735(d) of the Act, we will notify the ITC of our final affirmative determination of sales at LTFV. We will allow the ITC access to all privileged and business proprietary information in our files, provided the ITC confirms that it will not disclose such information, either publicly or under an administrative protective order (APO), without the written consent of the Assistant Secretary for Enforcement and Compliance.

Because the final determination in this proceeding is affirmative, in accordance with section 735(b)(2) of the Act, the ITC will make its final determination as to whether the domestic industry in the United States is materially injured, or threatened with material injury, by reason of imports of ceramic abrasive grains from China no later than 45 days after our final determination. If the ITC determines that material injury or threat of material injury does not exist, the proceeding will be terminated and all cash deposits will be refunded. If the ITC determines that such injury does exist, Commerce intends to issue an antidumping duty order, in accordance with section 736(a) of the Act, directing CBP to assess, upon further instruction by Commerce, antidumping duties on all imports of the subject merchandise that are entered, or withdrawn from warehouse, for consumption on or after the effective date of the suspension of liquidation, as discussed above in the “Continuation of Suspension of Liquidation” section.

Administrative Protective Order

In the event that the ITC issues a final negative injury determination, this notice will serve as the only reminder to parties subject to an APO of their responsibility concerning the disposition of proprietary information disclosed under APO in accordance with 19 CFR 351.305(a)(3). Timely written notification of the return/destruction of APO materials or conversion to judicial protective order is hereby requested. Failure to comply with the regulations and terms of an APO is a violation which is subject to sanction.

Notification to Interested Parties

This determination is issued and published in accordance with sections 735(d) and 777(i) of the Act, and 19 CFR 351.210(c).

Dated: August 11, 2025.
Christopher Abbott,
Deputy Assistant Secretary for Policy and Negotiations, performing the non-exclusive functions and duties of the Assistant Secretary for Enforcement and Compliance.

Appendix

Scope of the Investigation

The merchandise covered by this investigation is sol gel alumina-based ceramic abrasive grains which are comprised of minimum 94% aluminum oxide (Al2O3), and may contain other compounds, including, but not limited to, titanium dioxide, silicon dioxide, calcium oxide, sodium superoxide, ferric oxide, magnesium oxide, di-aluminum magnesium tetroxide, lanthanum oxide, lanthanum magnesium oxide, zirconium dioxide, or zirconium carbonate. Grain sizes of sol gel alumina-based ceramic abrasive grains range from 0.85 mm to 0.0395 mm (which corresponds to American National Standards Institute (ANSI) grit sizes from 20 to 280).

Shapes include but are not limited to angular, sharp, extra sharp, blocky, splintery, round stripped, triangular or shaped like extruded rods or stars.

Ceramic abrasive grains have unique crystalline structures that impart certain advanced properties, such as their extreme hardness and strength ranging between 16 and 22 gigapascals by the Vickers Diamond Indent Method, high melting point (2050 °C), and a single- or multi-phase microstructure, which may contain multiple phases, having crystalline sizes ranging from 0.05 to 30µm. These ceramic abrasive grains include but are not limited to blue, white, white-translucent, or off-white opaque colors.

Sol gel alumina-based ceramic abrasive grains are covered by the scope of this investigation, whether or not incorporated into downstream articles, including but not limited to, abrasive papers, grinding wheels, grinding cylinders, and grinding discs. When incorporated into downstream articles, only the sol gel alumina-based ceramic abrasive grains component of such articles is covered by the product scope, and not the downstream product as a whole.

The merchandise subject to this investigation is properly classified under subheadings 2818.10.2010 and 2818.10.2090 of the Harmonized Tariff Schedule of the United States (HTSUS). Other merchandise subject to the current scope, including when incorporated into the abovementioned downstream articles, may be classified under HTSUS subheadings 2818.10.1000, 2818.20.0000, 2818.30.0000, 3824.99.1100, 3824.99.1900, 6805.10.0000, 6805.20.0000, 6805.30.1000, 6805.30.5000, 6804.22.1000, 6804.22.4000, 6804.22.6000, 8204.12.0000, 8474.90.0010, 8474.90.0020, 8474.90.0050, and 8474.90.0090. Although the HTSUS statistical reporting numbers are provided for convenience and customs purposes, the written description of the merchandise is dispositive.

[FR Doc. 2025-15568 Filed 8-14-25; 8:45 am]

BILLING CODE 3510-DS-P